DEPARTMENT OF ENERGY

Federal Energy Regulatory Commission

[Docket No. CP23-3-000]

Tres Palacios Gas Storage LLC; Notice of Revised Schedule for Environmental Review of the Tres Palacios Cavern 4 Expansion Project

This notice identifies the Federal Energy Regulatory Commission staff's revised schedule for the completion of the environmental assessment (EA) for Tres Palacios Gas Storage LLC's (Tres Palacios) Cavern 4 Expansion Project. The first notice of schedule, issued on January 6, 2023, identified April 14, 2023, as the EA issuance date based upon receiving timely information from Tres Palacios. Staff-requested information needed by January 31, 2023 was not provided by Tres Palacios until March 17, 2023. Due to the delay in providing the necessary requested information, staff has revised the schedule for issuance of the EA.

Schedule for Environmental Review

Issuance of the EA May 12, 2023

90-day Federal Authorization Decision Deadline ¹ August 10, 2023

¹ The Commission's deadline applies to the decisions of other Federal agencies, and state agencies acting under federally delegated authority, that are responsible for Federal authorizations, permits, and other approvals necessary for proposed projects under the Natural Gas Act. Per 18 CFR 157.22(a), the Commission's deadline for other agency's decisions applies unless a schedule is otherwise established by Federal law.

If an additional schedule change becomes necessary, a notice will be issued so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the project is available from the Commission's Office of External Affairs at (866) 208-FERC or on the FERC website (www.ferc.gov). Using the “eLibrary” link, select “General Search” from the eLibrary menu, enter the selected date range and “Docket Number” excluding the last three digits (i.e., CP23-3), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 3, 2023.
Kimberly D. Bose,
Secretary.

[FR Doc. 2023-07387 Filed 4-6-23; 8:45 am]

BILLING CODE 6717-01-P